DEPARTMENT OF ENERGY

Federal Energy Regulatory Commission

[Project No. 14449-000]

Archon Energy 1, Inc.; Notice of Preliminary Permit Application Accepted for Filing and Soliciting Comments, Motions To Intervene, and Competing Applications

On August 30, 2012, Archon Energy 1, Inc. filed an application for a preliminary permit, pursuant to section 4(f) of the Federal Power Act, proposing to study the feasibility of the Kings River Drop 6 Hydroelectric Project (Kings River Drop 6 Project or project) at the Peoples Weir on the Kings River, near the city of Kingsburg in King County, California. The sole purpose of a preliminary permit, if issued, is to grant the permit holder priority to file a license application during the permit term. A preliminary permit does not authorize the permit holder to perform any land-disturbing activities or otherwise enter upon lands or waters owned by others without the owners' express permission.

The proposed project would consist of the following: (1) A new gated water intake structure and canal adjacent to the north abutment of the existing dam; (2) a 70-foot by 55-foot by 35-foot turbine structure enclosing five 400-kilowatt Archimedes-screw-type turbines, each 13 feet in diameter and 45 feet in length; (3) a 900-foot-long, 12.4-kilovolt primary transmission line connecting the project with Pacific Gas and Electric's transmission lines; and (4) appurtenant facilities. The proposed project would have a capacity of 2.0 megawatts and generate an estimated average of 14,500 megawatt-hours annually by passing stream flow through the powerhouse that normally would pass over the dam.

Applicant Contact: Mr. Paul Grist, Archon Energy 1, Inc., 101 E. Kennedy Blvd., Suite 2800, Tampa, Florida 33602, phone: (403) 618-2018.

FERC Contact: Joseph Hassell; phone: (202) 502-8079.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14449) in the docket number field to access the document. For assistance, contact FERC Online Support.

Dated: October 16, 2012.
Kimberly D. Bose,
Secretary.

[FR Doc. 2012-25880 Filed 10-19-12; 8:45 am]

BILLING CODE 6717-01-P